DEPARTMENT OF ENERGY

Federal Energy Regulatory Commission

Combined Notice of Filings #2

Take notice that the Commission received the following electric rate filings:

Docket Numbers: ER22-2531-000.

Applicants: TerraForm IWG Acquisition Holdings II, LLC.

Description: § 205(d) Rate Filing: Revised Market-Based Rate Tariff to be effective 7/30/2022.

Filed Date: 7/29/22.

Accession Number: 20220729-5098.

Comment Date: 5 p.m. ET 8/19/22.

Docket Numbers: ER22-2532-000.

Applicants: Pacific Gas and Electric Company.

Description: § 205(d) Rate Filing: Q2 2022 Quarterly Filing of City and County of San Francisco's WDT SA (SA 275) to be effective 6/30/2022.

Filed Date: 7/29/22.

Accession Number: 20220729-5099.

Comment Date: 5 p.m. ET 8/19/22.

Docket Numbers: ER22-2533-000.

Applicants: American Electric Power Service Corporation, Ohio Power Company, PJM Interconnection, L.L.C.

Description: § 205(d) Rate Filing: American Electric Power Service Corporation submits tariff filing per 35.13(a)(2)(iii: AEP submits one Facilities Agreement Deshler re: ILDSA SA No. 1422 to be effective 9/28/2022.

Filed Date: 7/29/22.

Accession Number: 20220729-5110.

Comment Date: 5 p.m. ET 8/19/22.

Docket Numbers: ER22-2534-000.

Applicants: Jersey Central Power & Light Company, PJM Interconnection, L.L.C.

Description: § 205(d) Rate Filing: Jersey Central Power & Light Company submits tariff filing per 35.13(a)(2)(iii: JCP&L Submits IA No. 6409 to be effective 10/1/2022.

Filed Date: 7/29/22.

Accession Number: 20220729-5113.

Comment Date: 5 p.m. ET 8/19/22.

Docket Numbers: ER22-2535-000.

Applicants: Tri-State Generation and Transmission Association, Inc.

Description: § 205(d) Rate Filing: Initial Filing of Service Agreement No. 109 and Service Agreement No. 209 to be effective 6/30/2022.

Filed Date: 7/29/22.

Accession Number: 20220729-5114.

Comment Date: 5 p.m. ET 8/19/22.

Docket Numbers: ER22-2536-000.

Applicants: Kossuth County Wind, LLC.

Description: Baseline eTariff Filing: Kossuth County Wind, LLC Application for Market-Based Rate Authorization to be effective 9/28/2022.

Filed Date: 7/29/22.

Accession Number: 20220729-5118.

Comment Date: 5 p.m. ET 8/19/22.

Docket Numbers: ER22-2537-000.

Applicants: Alabama Power Company, Georgia Power Company, Mississippi Power Company.

Description: § 205(d) Rate Filing: Alabama Power Company submits tariff filing per 35.13(a)(2)(iii: FP&L (Exxon/Blackjack) NITSA Filing to be effective 7/13/2022.

Filed Date: 7/29/22.

Accession Number: 20220729-5124.

Comment Date: 5 p.m. ET 8/19/22.

Docket Numbers: ER22-2538-000.

Applicants: Metropolitan Edison Company, PJM Interconnection, L.L.C.

Description: § 205(d) Rate Filing: Metropolitan Edison Company submits tariff filing per 35.13(a)(2)(iii: Met-Ed revisions to Tariff, Attachment H-5A to be effective 10/1/2022.

Filed Date: 7/29/22.

Accession Number: 20220729-5126.

Comment Date: 5 p.m. ET 8/19/22.

Docket Numbers: ER22-2539-000.

Applicants: Tri-State Generation and Transmission Association, Inc.

Description: Tariff Amendment: Notice of Cancellation of Service Agreement Nos. 105 and 205 to be effective 6/30/2022.

Filed Date: 7/29/22.

Accession Number: 20220729-5135.

Comment Date: 5 p.m. ET 8/19/22.

Docket Numbers: ER22-2540-000.

Applicants: Mid-Atlantic Interstate Transmission, LLC, PJM Interconnection, L.L.C.

Description: § 205(d) Rate Filing: Mid-Atlantic Interstate Transmission, LLC submits tariff filing per 35.13(a)(2)(iii: MAIT Submits IA No. 6410 to be effective 10/1/2022.

Filed Date: 7/29/22.

Accession Number: 20220729-5149.

Comment Date: 5 p.m. ET 8/19/22.

Docket Numbers: ER22-2541-000.

Applicants: Metropolitan Edison Company.

Description: § 205(d) Rate Filing: Amended Load Serving Entity Agreement-Revised MetEd Rate Schedule FERC No. 84 to be effective 10/1/2022.

Filed Date: 7/29/22.

Accession Number: 20220729-5157.

Comment Date: 5 p.m. ET 8/19/22.

Docket Numbers: ER22-2542-000.

Applicants: Pennsylvania Electric Company, PJM Interconnection, L.L.C.

Description: § 205(d) Rate Filing: Pennsylvania Electric Company submits tariff filing per 35.13(a)(2)(iii: Penelec revisions to Tariff, Attachment H-6A to be effective 10/1/2022.

Filed Date: 7/29/22.

Accession Number: 20220729-5164.

Comment Date: 5 p.m. ET 8/19/22.

Docket Numbers: ER22-2543-000.

Applicants: Metropolitan Edison Company.

Description: § 205(d) Rate Filing: FirstEnergy Filing of Met-Ed 2022 Consolidated Agreement to be effective 10/1/2022.

Filed Date: 7/29/22.

Accession Number: 20220729-5165.

Comment Date: 5 p.m. ET 8/19/22.

Docket Numbers: ER22-2544-000.

Applicants: Pennsylvania Electric Company.

Description: § 205(d) Rate Filing: FirstEnergy Filing of Penelec 2022 Consolidated Agreement to be effective 10/1/2022.

Filed Date: 7/29/22.

Accession Number: 20220729-5167.

Comment Date: 5 p.m. ET 8/19/22.

Docket Numbers: ER22-2545-000.

Applicants: Metropolitan Edison Company, PJM Interconnection, L.L.C.

Description: § 205(d) Rate Filing: Metropolitan Edison Company submits tariff filing per 35.13(a)(2)(iii: Met-Ed Submits IA No. 6411 to be effective 10/1/2022.

Filed Date: 7/29/22.

Accession Number: 20220729-5168.

Comment Date: 5 p.m. ET 8/19/22.

Docket Numbers: ER22-2546-000.

Applicants: ISO New England Inc., New England Power Pool Participants Committee.

Description: § 205(d) Rate Filing: ISO New England Inc. submits tariff filing per 35.13(a)(2)(iii: ISO-NE/NEPOOL; Revisions Related to Continuous Storage Facility Model to be effective 10/1/2022.

Filed Date: 7/29/22.

Accession Number: 20220729-5169.

Comment Date: 5 p.m. ET 8/19/22.

Docket Numbers: ER22-2547-000.

Applicants: West Penn Power Company.

Description: § 205(d) Rate Filing: FirstEnergy Filing of West Penn 2022 Consolidated Agreement to be effective 10/1/2022.

Filed Date: 7/29/22.

Accession Number: 20220729-5170.

Comment Date: 5 p.m. ET 8/19/22.

Docket Numbers: ER22-2548-000.

Applicants: Mid-Atlantic Interstate Transmission, LLC.

Description: § 205(d) Rate Filing: FirstEnergy Filing of MAIT 2022 Consolidated Agreement to be effective 10/1/2022.

Filed Date: 7/29/22.

Accession Number: 20220729-5174.

Comment Date: 5 p.m. ET 8/19/22.

Docket Numbers: ER22-2549-000.

Applicants: Red Lake Falls Community Hybrid LLC.

Description: Tariff Amendment: Cancellation of Complete Tariff to be effective 7/30/2022.

Filed Date: 7/29/22.

Accession Number: 20220729-5178.

Comment Date: 5 p.m. ET 8/19/22.

Docket Numbers: ER22-2550-000.

Applicants: Midway-Sunset Cogeneration Company.

Description: § 205(d) Rate Filing: Midway Sunset Cogeneration Request for Daily Surcharge Payment to be effective 8/1/2022.

Filed Date: 7/29/22.

Accession Number: 20220729-5182.

Comment Date: 5 p.m. ET 8/19/22.

Docket Numbers: ER22-2551-000.

Applicants: Tucson Electric Power Company.

Description: § 205(d) Rate Filing: OATT Service Agreement Nos. 498 and 502 to be effective 7/1/2022.

Filed Date: 7/29/22.

Accession Number: 20220729-5185.

Comment Date: 5 p.m. ET 8/19/22.

Docket Numbers: ER22-2552-000.

Applicants: Java Solar, LLC.

Description: Baseline eTariff Filing: Java Solar, LLC Application for Market-Based Rate Authorization to be effective 9/15/2022.

Filed Date: 7/29/22.

Accession Number: 20220729-5186.

Comment Date: 5 p.m. ET 8/19/22.

Docket Numbers: ER22-2553-000.

Applicants: Public Service Company of Colorado.

Description: § 205(d) Rate Filing: 2022-07-29 PSCo Subentity Agrmt-538-0.1.0 to be effective 8/1/2022.

Filed Date: 7/29/22.

Accession Number: 20220729-5190.

Comment Date: 5 p.m. ET 8/19/22.

Docket Numbers: ER22-2554-000.

Applicants: Duke Energy Carolinas, LLC.

Description: § 205(d) Rate Filing: DEC-NCMPA1 Revised NITSA SA No. 212 to be effective 7/1/2022.

Filed Date: 7/29/22.

Accession Number: 20220729-5191.

Comment Date: 5 p.m. ET 8/19/22.

Docket Numbers: ER22-2555-000.

Applicants: Pennsylvania Electric Company, PJM Interconnection, L.L.C.

Description: § 205(d) Rate Filing: Pennsylvania Electric Company submits tariff filing per 35.13(a)(2)(iii: Penelec Submits IA No. 6412 to be effective 10/1/2022.

Filed Date: 7/29/22.

Accession Number: 20220729-5205.

Comment Date: 5 p.m. ET 8/19/22.

Docket Numbers: ER22-2556-000.

Applicants: Rainbow Energy Marketing Corporation.

Description: Compliance filing: Rainbow Energy Marketing Corp Change in Status Notice to be effective 7/30/2022.

Filed Date: 7/29/22.

Accession Number: 20220729-5206.

Comment Date: 5 p.m. ET 8/19/22.

Docket Numbers: ER22-2557-000.

Applicants: Basin Electric Power Cooperative.

Description: Tariff Amendment: Basin Electric Notice of Cancellation of Service Agreements to be effective 6/28/2022.

Filed Date: 7/29/22.

Accession Number: 20220729-5210.

Comment Date: 5 p.m. ET 8/19/22.

Docket Numbers: ER22-2558-000.

Applicants: Great Pathfinder Wind, LLC.

Description: Baseline eTariff Filing: Application for Market Base Rate to be effective 10/1/2022.

Filed Date: 7/29/22.

Accession Number: 20220729-5220.

Comment Date: 5 p.m. ET 8/19/22.

Docket Numbers: ER22-2559-000.

Applicants: Alabama Power Company, Georgia Power Company, Mississippi Power Company.

Description: § 205(d) Rate Filing: Alabama Power Company submits tariff filing per 35.13(a)(2)(iii: Cooperative Energy NITSA Amendment Filing (adding Cumbest Bluff DP) to be effective 7/1/2022.

Filed Date: 7/29/22.

Accession Number: 20220729-5221.

Comment Date: 5 p.m. ET 8/19/22.

Docket Numbers: ER22-2560-000.

Applicants: PacifiCorp.

Description: § 205(d) Rate Filing: Amendments to FERC Volume No. 13 to be effective 10/1/2022.

Filed Date: 7/29/22.

Accession Number: 20220729-5238.

Comment Date: 5 p.m. ET 8/19/22.

Docket Numbers: ER22-2561-000.

Applicants: Black Hills Colorado Electric, LLC.

Description: § 205(d) Rate Filing: Certificate of Concurrence to PSCO Subentity Sharing Agreement to be effective 8/1/2022.

Filed Date: 7/29/22.

Accession Number: 20220729-5240.

Comment Date: 5 p.m. ET 8/19/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 29, 2022.
Debbie-Anne A. Reese,
Deputy Secretary.

[FR Doc. 2022-16730 Filed 8-3-22; 8:45 am]

BILLING CODE 6717-01-P